DEPARTMENT OF THE TREASURY

Submission for OMB Review; Comment Request

December 10, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before January 15, 2009 to be assured of consideration.

Internal Revenue Service (IRS)

OMB Number: 1545-1029.

Type of Review: Revision.

Form: 8693.

Title: Low-Income Housing Credit Disposition Bond or Treasury Direct Account Application.

Description: Form 8693 is needed per IRC section 42(j)(6) to post bond or establish a Treasury Direct Account and waive the recapture requirements under section 42(j) for certain disposition of a building on which the low-income housing credit was claimed. Internal Revenue regulations section 301.7101-1 requires that the posting of a bond must be done on the appropriate form as determined by the Internal Revenue Service.

Respondents: Businesses or other for-profits.

Estimated Total Burden Hours: 1,128 hours.

OMB Number: 1545-0127.

Type of Review: Extension.

Form: 1120-H.

Title: U.S. Income Tax Return for Homeowners Associations.

Description: Homeowners associations file Form 1120-H to report income, deductions, and credits. The form is also used to report the income tax liability of the homeowners association. The IRS uses Form 1120-H to determine if the income, deductions, and credits have been correctly computed. The form is also used for statistical purposes.

Respondents: Businesses or other for-profits.

Estimated Total Burden Hours: 3,665,832 hours.

OMB Number: 1545-1467.

Type of Review: Revision.

Form: 9779, 9779(SP), 9783, 9783(SP), 9787, 9787(SP), 9789/9789 (SP).

Title: Electronic Federal Tax Payment System (EFTPS).

Description: Enrollment is vital to the implementation of the Electronic Federal Tax Payment System (EFTPS). EFTPS is an electronic remittance processing system that the Service will use to accept electronically transmitted federal tax payments. This system is a necessary outgrowth of advanced information and communication technologies.

Respondents: Businesses or other for-profits.

Estimated Total Burden Hours: 766,446 hours.

OMB Number: 1545-1819.

Type of Review: Revision.

Title: REG-116641-01 (TD 9136—Final) Information Reporting and Backup Withholding for Payment Card Transactions; (REG-163195-05 (NPRM)).

Description: This document contains final regulations relating to the information reporting requirements, information reporting penalties, and backup withholding requirements for payment card transactions. This document also contains final regulations relating to the IRS TIN Matching Program.

Respondents: Businesses or other for-profits.

Estimated Total Burden Hours: 37,239,570 hours.

OMB Number: 1545-0718.

Type of Review: Extension.

Form: 941-M.

Title: Employer's Monthly Federal Tax Return.

Description: Form 941-M is used by certain employers to report payroll taxes on a monthly rather than quarterly basis. Employers who have failed to file Form 941 or who have failed to deposit taxes as required are notified by the District Director that they must file Form 941-M monthly.

Respondents: Businesses or other for-profits.

Estimated Total Burden Hours: 166,320 hours.

Clearance Officer: Glenn P. Kirkland, (202) 622-3428, Internal Revenue Service, Room 6516, 1111 Constitution Avenue, NW., Washington, DC 20224.

OMB Reviewer: Nicholas A. Fraser, (202) 395-5887, Office of Management and Budget, Room 10235, New Executive Office Building, Washington, DC 20503.

Celina Elphage,
Treasury PRA Clearance Officer.

[FR Doc. E8-29738 Filed 12-15-08; 8:45 am]

BILLING CODE 4830-01-P